ENVIRONMENTAL PROTECTION AGENCY

[ER-FRL-6663-9]

Environmental Impacts Statements; Notice of Availability

Responsible Agency: Office of Federal Activities, General Information (202) 564-7167 or http://www.epa.gov/compliance/nepa/.

Weekly receipt of Environmental Impact Statements filed 05/23/2005 through 05/27/2005 pursuant to 40 CFR 1506.9.

EIS No. 20050206, Draft EIS, SFW, NC, Roanoke River National Wildlife Refuge, Comprehensive Conservation Plan, To Determine and Evaluate a Range of Reasonable Management Alternatives, Bertie County, NC, Comment Period Ends: 07/18/2005, Contact: Bob Glennon 252-482-2364.

EIS No. 20050207, Final EIS, AFS, 00, Pacific Northwest Region Invasive Plant Program, Preventing and Managing Invasive Plants, Implementation, Portions of Del Norte and Siskiyou Counties, CA, portions of Nez Perce, Salmon, Idaho, and Adam Counties, ID, OR, and WA, Wait Period Ends: 07/05/2005, Contact: Eugene Skrine 503-808-2685.

EIS No. 20050208, Final EIS, AFS, SD, Sioux Ranger District Oil and Gas Leasing Project, Implementation, Sioux Ranger District, Custer National, Harding County, SD, Wait Period Ends: 07/05/2005, Contact: Laurie Walters-Clark 605-797-4432.

EIS No. 20050209, Draft EIS, NPS, WY, Grand Teton National Park Transportation Plan, Implementation, Grand Teton National Park, Teton County, WY, Comment Period Ends: 07/18/2005, Contact: Adrienne Anderson 303-987-6730.

EIS No. 20050210, Draft EIS, AFS, CO, Rock Creek Integrated Management Project, Propose Treatment to Address Mountain Beetle Epidemics, and to Reduce Wildfires within the Rock Creek Analysis Area, Medicine Bow-Routt National Forests and Thunder Basin National Grassland, Glenwood Springs Resource Area, Routt and Grand Counties, CO, Comment Period Ends: 07/18/2005, Contact: Andy Cadenhead 970-870-2220.

EIS No. 20050211, Draft EIS, SFW, IA, Driftless Area National Wildlife Refuge Comprehensive Conservation Plan, To Recover and Conserve the Northern Monkshood and Iowa Pleistocene Snail, IA, Comment Period Ends: 07/22/2005, Contact: John Lindell 563-873-3423 Ext. 2. This document is available on the Internet at: http://www.fws.gov/midwest/planning/DriftlessArea/.

EIS No. 20050212, Final EIS, AFS, WA, Dean Project Area, Proposes to Implement Multiple Resource Management Actions, Black Hills National Forest, Bearlodge Ranger District, Sundance, Crook County, WA, Wait Period Ends: 07/05/2005, Contact: Steve Kozel 307-283-1361

EIS No. 20050213, Draft EIS, FHW, MN, Trunk Highway 23 Improvements Project, From 0.25 Miles West of CSAH 6 in Kandiyohi County to 0.3 Miles Southwest of CSAH 123 Stearns County, City of Paynesville, Kandiyohi and Stearns Counties, MN, Comment Period Ends: 07/18/2005, Contact: Cheryl Martin 651-291-6120

EIS No. 20050214, Final EIS, AFS, MT, McSutten Decision Area, Implementation of Harvest and Associated Activities, Prescribed Burning, and Road Management, Kootenai National Forest, Rexford Ranger District, Lincoln County, MT, Wait Period Ends: 07/05/2005, Contact: Chris Fox 406-296-7155

EIS No. 20050215, Final EIS, AFS, AZ, Bar T Bar Anderson Springs Allotment Management Plans to Authorize Permitted Livestock Grazing for a 10-Year Period, Coconino National Forest, Mogollon Rim and Mormon Lake Ranger District, Coconino County, AZ, Wait Period Ends: 07/05/2005, Contact: Carol Holland 928-477-2255

EIS No. 20050216, Draft EIS, IBR, CA, San Luis Drainage Feature Re-evaluation Project, Provide Agricultural Drainage Service to the San Luis Unit, Several Counties, CA, Comment Period Ends: 08/03/2005, Contact: Gerald Robbins 916-978-5061

EIS No. 20050217, Final EIS, AFS, NM, Ojo Caliente Proposed Transmission Line, Propose to Authorize, Construct, Operate and Maintain a New 115kV Transmission Line and Substation, Carson National Forest and BLM Taos Field Office, Taos and Rio Arariba Counties, NM, Wait Period Ends: 07/05/2005, Contact: Ben Kuykendall 505-758-6311

Amended Notices

EIS No. 20050126, Draft EIS, COE, CA, PROGRAMMATIC—San Luis Obispo Creek Watershed, Waterway Management Plan, Stream Maintenance and Management Plan, City of San Luis Obispo and County of San Luis Obispo, Community of Avila Beach, San Luis Obispo County, CA, Comment Period Ends: 05/09/2005, Contact: Bruce Henderson 805-585-2145 Revision of Federal Register Notice Published 03/25/2005: Correction to Review Period Ending 07/10/2005 should have Ended on 05/09/2005.

EIS No. 20050127, Draft EIS, AFS, MI, Hiawatha National Forest, Proposed Land and Resource Management Plan, Forest Plan Revision, Implementation, Alger, Cheboygan, Chippewa, Delta, Luce and Mackinac Counties, MI, Comment Period Ends: 06/27/2005 Contact: Dave Maercklein 906-786-4062 Revision of Federal Register Notice Published on 03/25/2005: Correction to Title

EIS No. 20050202, Draft EIS, CGD, 00, PROGRAMMATIC—Vessel and Facility Response Plans for Oil: 2003 Removal Equipment Requirements and Alternative Technology Revisions, To Increase the Oil Removal Capability, U.S. Exclusive Economic Zone (EEZ), United States, Alaska, Guam, Puerto Pico and other U.S. Territories, Comment Period Ends: 07/26/2005, Contact: Brad McKitrick 202-267-0995 Revision of Federal Register Notice Published on 05/27/2005: Correction to CEQ Comment Period Ending 07/11/2005 should be 07/26/2005.

Dated: May 31, 2005.
Ken Mittelholtz,
Environmental Protection Specialist, Office of Federal Activities.

[FR Doc. 05-11110 Filed 6-2-05; 8:45 am]

BILLING CODE 6560-50-P